CONSUMER PRODUCT SAFETY COMMISSION

Commission Agenda, Priorities and Strategic Plan; Request for Comments

AGENCY: Consumer Product Safety Commission.

ACTION: Request for comments.

SUMMARY: The staff of the Consumer Product Safety Commission (Commission or CPSC) is requesting interested parties to comment about the CPSC's agenda and priorities for Commission attention during fiscal year 2009, which begins October 1, 2008, and about revisions to its current strategic plan, the revised version of which will be submitted to Congress in the fall of 2007 pursuant to the Government Performance and Results Act (GPRA). Written comments concerning the Commission's agenda and priorities for fiscal year 2009 and revisions to the strategic plan become part of the public record.

DATES: Written comments from members of the public must be received by the Office of the Secretary not later than July 20, 2007.

ADDRESSES: Written comments should be captioned “Agenda, Priorities and Strategic Plan” and e-mailed to cpsc-os@cpsc.gov, or mailed or delivered to the Office of the Secretary, Consumer Product Safety Commission, 4330 East West Highway, Bethesda, Maryland 20814, to be received not later than July 20, 2007.

FOR FURTHER INFORMATION CONTACT: For a copy of the current strategic plan, e-mail, call or write Todd A. Stevenson, Office of the Secretary, Consumer Product Safety Commission, 4330 East West Highway, Bethesda, Maryland 20814; e-mail cpsc-os@cpsc.gov; telephone (301) 504-7923; facsimile (301) 504-0127. An electronic copy of the 2003 Strategic Plan can be found at http://www.cpsc.gov/cpscpub/pubs/reports/2003strategic.pdf.

SUPPLEMENTARY INFORMATION: Section 306(d) of the Government Performance and Results Act (GPRA) (5 U.S.C. 306(d)) requires the Commission to seek comments from interested parties as part of the process of revising the current CPSC strategic plan. The strategic plan is a GPRA requirement. The revised plan will provide an overall guide to the formulation of future agency actions and budget requests.

The Office of Management and Budget requires all Federal agencies to submit their budget requests 13 months before the beginning of each fiscal year. The draft CPSC budget request for fiscal year 2009, which begins on October 1, 2008, is being formulated now by staff. The final budget request must reflect the contents of the agency's strategic plan developed under GPRA.

The Commission staff desires to obtain the views of a wide range of interested persons including consumers; manufacturers, importers, distributors, and retailers of consumer products; members of the academic community; consumer advocates; and health and safety officers of state and local governments on both the fiscal year 2009 budget and potential revisions to the strategic plan.

Written comments on the Commission's current strategic plan, and agenda and priorities for fiscal year 2009, should be received in the Office of the Secretary not later than July 20, 2007. Persons who desire a hard copy of the current strategic plan may contact the Office of the Secretary, Consumer Product Safety Commission, 4330 East West Highway, Bethesda, MD 20814, e-mail cpsc-os@cpsc.gov, telephone (301) 504-7923, facsimile (301) 504-0127. The strategic plan is also available on the CPSC Web site at http://www.cpsc.gov/cpscpub/pubs/reports/2003strategic.pdf.

The CPSC's FY 2008 budget request that is currently pending before Congress is available at http://www.cpsc.gov/cpscpub/pubs/reports/2008plan.pdf.

Dated: June 28, 2007.
Todd A. Stevenson,
Secretary, Consumer Product Safety Commission.

[FR Doc. E7-12965 Filed 7-3-07; 8:45 am]

BILLING CODE 6355-01-P